DEPARTMENT OF LABOR

Employment and Training Administration

20 CFR Part 655

RIN 1205-AB61

Wage Methodology for the Temporary Non-Agricultural Employment H-2B Program; Extension of the Comment Period

AGENCIES: Employment and Training Administration.

ACTION: Proposed rule; extension of comment period.

SUMMARY: On October 5, 2010, the Employment and Training Administration (ETA) issued a Notice of Proposed Rulemaking (NPRM) to amend its regulations governing the certification of the employment of nonimmigrant workers in temporary or seasonal non-agricultural employment and the enforcement of the obligations applicable to employers of such nonimmigrant workers. The proposed rule provided a comment period for the regulatory text through November 4, 2010. The agency has received several requests to extend the comment period and has decided to extend the comment period for an additional 8 days, to November 12, 2010.

DATES: The comment period for the notice of proposed rulemaking published October 5, 2010, 75 FR 61578 is extended through November 12, 2010. Interested persons are invited to submit written comments on the proposed rule on or before November 12, 2010.

ADDRESSES: You may submit comments, identified by Regulatory Information Number (RIN) 1205-AB61, by any one of the following methods:

• Federal e-Rulemaking Portal: http://www.regulations.gov. Follow the Web site instructions for submitting comments.

• Mail: Please submit all written comments (including disk and CD-ROM submissions) to Thomas Dowd, Administrator, Office of Policy Development and Research, Employment and Training Administration, U.S. Department of Labor, 200 Constitution Avenue, NW., Room N-5641, Washington, DC 20210.

• Hand Delivery/Courier: Please submit all comments to Thomas Dowd, Administrator, Office of Policy Development and Research, Employment and Training Administration, U.S. Department of Labor, 200 Constitution Avenue, NW., Room N-5641, Washington, DC 20210.

Please submit your comments by only one method. The Department of Labor (Department) will post all comments received on http://www.regulations.gov without making any change to the comments, including any personal information provided. The http://www.regulations.gov Web site is the Federal e-rulemaking portal and all comments posted there are available and accessible to the public. The Department cautions commenters not to include their personal information such as Social Security Numbers, personal addresses, telephone numbers, and e-mail addresses in their comments as such submitted information will become viewable by the public via the http://www.regulations.gov Web site. It is the responsibility of the commenter to safeguard his or her information. Comments submitted through http://www.regulations.gov will not include the commenter's e-mail address unless the commenter chooses to include that information as part of his or her comment.

Postal delivery in Washington, DC, may be delayed due to security concerns. Therefore, the Department encourages the public to submit comments via the Web site indicated above.

Docket: For access to the docket to read background documents or comments received, go the Federal eRulemaking portal at http://www.regulations.gov. The Department will also make all the comments it receives available for public inspection during normal business hours at the ETA Office of Policy Development and Research at the above address. If you need assistance to review the comments, the Department will provide you with appropriate aids such as readers or print magnifiers. The Department will make copies of the rule available, upon request, in large print and as electronic file on computer disk. The Department will consider providing the proposed rule in other formats upon request. To schedule an appointment to review the comments and/or obtain the rule in an alternate format, contact the Office of Policy Development and Research at (202) 693-3700 (VOICE) (this is not a toll-free number) or 1-877-889-5627 (TTY/TDD).

FOR FURTHER INFORMATION CONTACT: For further information contact William L. Carlson, PhD, Administrator, Office of Foreign Labor Certification, Employment and Training Administration, U.S. Department of Labor, 200 Constitution Avenue, NW., Room N-5641, Washington, DC 20210; Telephone (202) 693-3010 (this is not a toll-free number). Individuals with hearing or speech impairments may access the telephone number above via TTY by calling the toll-free Federal Information Relay Service at 1-800-877-8339.

SUPPLEMENTARY INFORMATION: On October 5, 2010 the Employment and Training Administration issued an NPRM to amend its regulations governing the certification of the employment of nonimmigrant workers in temporary or seasonal non-agricultural employment and the enforcement of the obligations applicable to employers of such nonimmigrant workers. 75 FR 61578, Oct. 5, 2010. The NPRM provided a comment period for the regulatory text through November 4, 2010. The agency has received several requests to extend the comment period and have decided to extend the comment period for an additional 8 days, to November 12, 2010. Given the complexity of the NPRM and the level of interest, as well as the Department's interest in receiving comments, the comment period is being extended until November 12, 2010.

Signed in Washington, DC, this 27th day of October 2010.
Jane Oates,
Assistant Secretary, Employment and Training Administration.

[FR Doc. 2010-27602 Filed 11-2-10; 8:45 am]

BILLING CODE 4510-FP-P